NATIONAL CREDIT UNION ADMINISTRATION

Agency Information Collection Activities: Submission to OMB for New Information Collections; Comment Request

AGENCY: National Credit Union Administration (NCUA).

ACTION: Request for comment.

SUMMARY: The NCUA has submitted the following information collection to the Office of Management and Budget (OMB) for review and clearance under the Paperwork Reduction Act of 1995 (Pub. L. 104-13, 44 U.S.C. Chapter 35). NCUA has requested emergency processing by February 28, 2006. This information collection is published to obtain comments from the public.

DATES: Comments will be accepted until February 28, 2006.

ADDRESSES: Interested parties are invited to submit written comments to NCUA Clearance Officer listed below:

Clearance Officer: Mr. Neil McNamara (703) 518-6447, National Credit Union Administration, 1775 Duke Street, Alexandria, Virginia 22314-3428, Fax No. 703-518-6489, E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-NEW.

Form Number: None.

Type of Review: New collection.

Title: Member Service Survey.

Description: Data collection intended to provide information about the types of services federal credit unions provide and the economic status and financial needs of the members receiving those services.

Respondents: Federal credit unions.

Estimated No. of Respondents/Recordkeepers: 481.

Estimated Burden Hours Per Response: 1 hour.

Frequency of Response: Reporting and on occasion.

Estimated Total Annual Burden Hours: 481.

Estimated Total Annual Cost: N/A.

By the National Credit Union Administration Board on February 15, 2006.
Mary Rupp,
Secretary of the Board.

[FR Doc. E6-2527 Filed 2-22-06; 8:45 am]

BILLING CODE 7535-01-P